DEPARTMENT OF HEALTH AND HUMAN SERVICES

Centers for Medicare and Medicaid Services

[Document Identifier: CMS-10182]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. CMS does not have sufficient time to complete the normal PRA clearance process. Section 1860D-1 of the Medicare Prescription Drug, Improvement, and Modernization Act of 2003 (MMA) and implementing regulations at 42 CFR 423.56(c) and (d) requires that all entities provide a disclosure of creditable coverage status to all Medicare Part D eligible individuals. The normal PRA clearance process would result in violating this statute which would result in public harm to enrolled Medicare prescription drug beneficiaries.

1. Type of Information Collection Request: New Collection; Title of Information Collection: Model Creditable Coverage Disclosure Notices; Use: Section 1860D-1 of the MMA requires entities that offer prescription drug benefits under any of the types of coverage described in 42 CFR 423.56(b) to provide a disclosure of creditable coverage status to all Medicare Part D eligible individuals covered under the entity's plan. These disclosure notices must be provided to Part D eligible individuals, at a minimum, at the following times: (1) Prior to an individual's initial enrollment period for Part D, (2) prior to the effective date of enrollment in the entity's coverage, and upon any change in creditable status; (3) prior to the commencement of the Part D Annual Coordinated Election Period (ACEP) which begins on November 15 of each year, and (4) upon request by the individual. Disclosure of whether prescription drug coverage is creditable provides Medicare eligible individuals with important information relating to their Medicare Part D enrollment.

Form Number: CMS-10182 (OMB#: 0938-New);

Frequency: Recordkeeping, Third party disclosure and Reporting: On occasion, Annually, and Other-As requested;

Affected Public: Individuals or Households, Business or other for-profit, Not-for-profit institutions and Federal, State, Local or Tribal Government;

Number of Respondents: 450,160;

Total Annual Responses: 1,225,173;

Total Annual Hours: 522,204.

CMS is requesting OMB review and approval of these collections by March 29, 2006, with a 180-day approval period. Written comments and recommendations will be considered from the public if received by the individuals designated below by March 17, 2006.

To obtain copies of the supporting statement and any related forms for the proposed paperwork collections referenced above, access CMS' Web site address at http://www.cms.hhs.gov/PaperworkReductionActof1995/ or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed to the designees referenced below by March 17, 2006:

Centers for Medicare and Medicaid Services, Office of Strategic Operations and Regulatory Affairs, Room C4-26-05, 7500 Security Boulevard, Baltimore, MD 21244-1850, Attn: Bonnie L Harkless,

and,

OMB Human Resources and Housing Branch, Attention: Carolyn Lovett, New Executive Office Building, Room 10235, Washington, DC 20503.

Dated: February 15, 2006.
Michelle Shortt,
Director, Regulations Development Group, Office of Strategic Operations and Regulatory Affairs.

[FR Doc. 06-1768 Filed 2-23-06; 8:45 am]

BILLING CODE 4120-01-P